DEPARTMENT OF COMMERCE

International Trade Administration

University of California, San Diego, et al., Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 A.M. and 5:00 P.M. in Suite 4100W, Franklin Court Building, U.S. Department of Commerce, 1099 14th Street, NW, Washington, D.C.

Comments: None received. Decision: Approved. No instrument of equivalent scientific value to the foreign instruments described below, for such purposes as each is intended to be used, is being manufactured in the United States.

Docket Number: 05-038. Applicant: University of California, San Diego. Instrument: Low-Temperature Ultra-High Vacuum Scanning Tunneling Microscope. Manufacturer: Omicron NanoTechnology, GmbH, Germany. Intended Use: See notice at 70 FR 54366, September 14, 2005. Reasons: The foreign instrument provides: (1) a scanning tunneling microscope (STM) mounted inside a 4K liquid helium reservoir (8-hour time between liquid He refills), (2) operation at an equilibrium temperature of 4 K (including both tip and sample), (3) in-situ sample manipulation and tip transfer capabilities, (4) low drift rates of 1.0 angstrom/hour (5) RMS vibration amplitudes of <0.005 angstrom in a 300 Hz bandwidth and (6) sample surface facing downwards during STM imaging for easy dosing. Advice received from: A university research laboratory for advanced microstructures and devices.

Docket Number: 05-039. Applicant: University of Wisconsin, Eau Claire. Instrument: Automatic Fusion Machine, Model Autofluxer 4. Manufacturer: Breitlander, GmbH, Germany. Intended Use: See notice at 70 FR . Reasons: The foreign instrument provides dissolution of whole rock powder by a combination fusion/acid digestion for trace element analysis by ICP mass spectrometry. No apparatus of equivalent scientific value to the foreign apparatus, for such purposes as it is intended to be used, is being manufactured in the United States. This is a compatible accessory for an existing instrument purchased for the use of the applicant. The accessory is pertinent to the intended uses and we know of no domestic accessory which can be readily adapted for use with the existing instrument.

Docket Number: 05-040. Applicant: National Renewable Energy Laboratory, Golden, CO, 80401. Instrument: Dual Beam Focused Ion Beam Electron Microscope, Model Nova 200 NanoLab. Manufacturer: FEI Company, The Netherlands. Intended Use: See notice at 70 FR 54366, September 14, 2005. Reasons: The foreign instrument is an electron microscope and is intended for research or scientific educational uses requiring it. We know of no instrument suited to these purposes, which was being manufactured in the United States at the time of order of the instrument.

We know of no other instrument or apparatus being manufactured in the United States which is of equivalent scientific value to any of the foreign instruments.

Gerald A. Zerdy,
Program Manager, Statutory Import Programs Staff.

[FR Doc. 05-22150 Filed 11-4-05; 8:45 am]

BILLING CODE 3510-DS-S